DEPARTMENT OF ENERGY

Federal Energy Regulatory Commission

[Project No. 12228-001]

Hulah Hydro, LLC; Notice of Surrender of Preliminary Permit

June 5, 2003.

Take notice that Hulah Hydro, LLC, permittee for the proposed Hulah Dam Hydroelectric Project, has requested that its preliminary permit be terminated. The permit was issued on November 5, 2002, and would have expired on October 31, 2005. The project would have been located on the Caney River in Osage County, Oklahoma.

The permittee filed the request on April 30, 2003. The preliminary permit for Project No. 12228 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-14756 Filed 6-10-03; 8:45 am]

BILLING CODE 6717-01-P